ENVIRONMENTAL PROTECTION AGENCY

40 CFR Part 52

[MO-194-1194; FRL-7658-5]

Approval and Promulgation of Air Quality Implementation Plans; Missouri Update to Materials Incorporated by Reference

AGENCY: Environmental Protection Agency (EPA).

ACTION: Final rule; notice of administrative change.

SUMMARY: EPA is updating the materials submitted by Missouri that are incorporated by reference (IBR) into the state implementation plan (SIP). The regulations affected by this update have been previously submitted by the state agency and approved by EPA. This update affects the SIP materials that are available for public inspection at the Office of the Federal Register (OFR), Office of Air and Radiation Docket and Information Center, and the Regional Office.

DATES: Effective Date: This action is effective May 24, 2004.

ADDRESSES: SIP materials which are incorporated by reference into 40 CFR part 52 are available for inspection at the following locations: Environmental Protection Agency, Region VII, 901 North 5th Street, Kansas City, Kansas 66101; Office of Air and Radiation Docket and Information Center, Room B-108, 1301 Constitution Avenue, NW. (Mail Code 6102T), Washington, DC 20460, and Office of the Federal Register, 800 North Capitol Street, NW., Suite 700, Washington, DC.

FOR FURTHER INFORMATION CONTACT: Evelyn VanGoethem at (913) 551-7659, or by e-mail at vangoethem.evelyn@epa.gov.

SUPPLEMENTARY INFORMATION: The SIP is a living document which the state can revise as necessary to address the unique air pollution problems in the state. Therefore, EPA from time to time must take action on SIP revisions containing new and/or revised regulations as being part of the SIP. On May 22, 1997 (62 FR 27968), EPA revised the procedures for incorporating by reference Federally-approved SIPs, as a result of consultations between EPA and the Office of Federal Register (OFR). The description of the revised SIP document, IBR procedures and “Identification of plan” format are discussed in further detail in the May 22, 1997, Federal Register document.

On June 29, 1999, EPA published a document in the Federal Register (64 FR 34717) beginning the new IBR procedure for Missouri. Today EPA is updating the IBR material.

EPA is also making minor corrections to the table in § 52.1320(c) as follows:

On November 26, 2003 (68 FR 66350), EPA updated rules 10-2.390 and 10-5.480. We are correcting the title of the rules in the table.

On May 18, 2000 (65 FR 31491), EPA updated rules 10-5.220, 10-5.295, 10-5.500, 10-5.520, 10-5.530, 10-5.540, and 10-5.550. The table is being corrected to include the missing Federal Register citation (65 FR 31491) for each rule.

On August 24, 1994 (59 FR 43480), EPA updated rule 10-5.350. The Federal Register page citation is being corrected to read 43480.

On November 30, 2003 (66 FR 59708), EPA updated rule 10-6.400. The table is being corrected to include the missing Federal Register citation (66 FR 59708).

On October 13, 1992 (57 FR 46778), EPA rescinded rule 50-2.400 under the heading Missouri Department of Public Safety Division 50—State Highway Patrol Chapter 2—Motor Vehicle Inspection. This rule is being removed from the table.

On April 22, 1998 (63 FR 19825) EPA approved and incorporated by reference revisions to the Kansas City Chapter 8—Air Quality rule Section 8-4. When Sections 8-2 and 8-5 of the Kansas City Air Quality rules were updated and added on December 22, 1999 (64 FR 71666), Section 8-4 was inadvertently removed from the table. We are restoring Section 8-4 into the table. The table is also being corrected to include the missing Federal Register citation (64 FR 71666) for Sections 8-2 and 8-5.

EPA is also making a minor correction to the table in § 52.1320(d). On May 5, 1995 (60 FR 22274), EPA approved consent orders for Doe Run Lead Smelter, Herculaneum, Missouri, numbers (7), (8) and (9) in the table. The Federal Register page citation is being corrected to read 22274.

EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's rule simply codifies provisions which are already in effect as a matter of law in Federal and approved state programs. Under section 553 of the APA, an agency may find good cause where procedures are “impractical, unnecessary, or contrary to the public interest.” Public comment is “unnecessary” and “contrary to the public interest” since the codification only reflects existing law. Immediate notice in the CFR benefits the public by updating citations.

Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act (CAA). This rule also is not subject to Executive Order 13045, “Protection of Children from Environmental Health Risks and Safety Risks” (62 FR 19885, April 23, 1997), because it is not economically significant.

In reviewing SIP submissions, EPA's role is to approve state choices, provided that they meet the criteria of the CAA. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by July 23, 2004. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: April 26, 2004.
William Rice,
Acting Regional Administrator, Region 7.

Chapter I, title 40, Code of Federal Regulations, is amended as follows:

PART 52—[AMENDED]

1. The authority for citation for part 52 continues to read as follows:

Authority: 42 U.S.C. 7401 et seq.

Subpart AA—Missouri

2. In § 52.1320 paragraphs (b), (c), (d) and (e) are revised to read as follows:

§ 52.1320 Identification of plan.

* * * * *

(b) Incorporation by reference.

(1) Material listed in paragraphs (c) and (d) of this section with an EPA approval date prior to April 1, 2004, was approved for incorporation by reference by the Director of the Federal Register in accordance with 5 U.S.C. 552(a) and 1 CFR part 51. Material is incorporated as it exists on the date of the approval, and notice of any change in the material will be published in the Federal Register. Entries in paragraphs (c) and (d) of this section with EPA approval dates after April 1, 2004, will be incorporated by reference in the next update to the SIP compilation.

(2) EPA Region VII certifies that the rules/regulations provided by EPA in the SIP compilation at the addresses in paragraph (b)(3) of this section are an exact duplicate of the officially promulgated state rules/regulations which have been approved as part of the SIP as of April 1, 2004.

(3) Copies of the materials incorporated by reference may be inspected at the Environmental Protection Agency, Region VII, Air Planning and Development Branch, 901 North 5th Street, Kansas City, Kansas 66101; or the EPA, Office of Air and Radiation Docket and Information Center, Room B-108, 1301 Constitution Avenue, NW., (Mail Code 6102T), Washington, DC 20460; or at the National Archives and Records Administration (NARA). For information on the availability of this material at NARA, call 202-741-6030, or go to: http://www.archives.gov/federal_register/code_of_federal_regulations/ibr_locations.html.

(c) EPA-approved regulations.

EPA-Approved Missouri Regulations
Missouri citation | Title | State effective date | EPA approval date | Explanation
Missouri Department of Natural Resources
Chapter 2—Air Quality Standards and Air Pollution Control Regulations for the Kansas City Metropolitan Area
10-2.040 | Maximum Allowable Emission of Particulate Matter from Fuel Burning Equipment Used for Indirect Heating | 9/4/84 | 1/24/85, 50 FR 3337
10-2.090 | Incinerators | 2/25/70 | 3/18/80, 45 FR 17145 | The state has rescinded this rule.
10-2.100 | Open Burning Restrictions | 4/2/84 | 8/31/84, 49 FR 34484
10-2.150 | Time Schedule for Compliance | 2/25/70 | 3/18/80, 45 FR 17145
10-2.205 | Control of Emissions from Aerospace Manufacture and Rework Facilities | 3/30/01 | 4/24/02, 67 FR 20038
10-2.210 | Control of Emissions from Solvent Metal Cleaning | 10/30/01 | 4/24/02, 67 FR 20038
10-2.215 | Control of Emissions from Solvent Cleanup Operations | 5/30/01 | 4/24/02, 67 FR 20038
10-2.220 | Liquefied Cutback Asphalt Paving Restricted | 6/3/91 | 6/23/92, 57 FR 27939
10-2.230 | Control of Emissions from Industrial Surface Coating Operations | 11/29/91 | 8/24/94, 59 FR 43480 | 4/3/95, 60 FR 16806 (correction).
10-2.260 | Control of Petroleum Liquid Storage, Loading, and Transfer | 11/30/02 | 3/18/03, 68 FR 12827
10-2.290 | Control of Emissions From Rotogravure and Flexographic Printing Facilities | 3/30/92 | 8/30/93, 58 FR 45451 | The state rule has Sections (6)(A) and (6)(B), which EPA has not approved. 9/6/94, 59 FR 43376 (correction).
10-2.300 | Control of Emissions from Manufacturing of Paints, Varnishes, Lacquers, Enamels and Other Allied Surface Coating Products | 11/29/91 | 3/26/03, 68 FR 14539 | 4/3/95, 60 FR 16806 (correction).
10-2.310 | Control of Emissions from the Application of Automotive Underbody Deadeners | 11/29/91 | 8/24/94, 59 FR 43480 | 4/3/95, 60 FR 16806 (correction).
10-2.320 | Control of Emissions from Production of Pesticides and Herbicides | 11/29/91 | 8/24/94, 59 FR 43480 | 4/3/95, 60 FR 16806 (correction).
10-2.330 | Control of Gasoline Reid Vapor Pressure | 5/30/01 | 2/13/02, 67 FR 6660
10-2.340 | Control of Emissions from Lithographic Printing Facilities | 09/30/03 | 10/30/03, 68 FR 61758
10-2.360 | Control of Emissions from Bakery Ovens | 11/30/95 | 7/20/98, 63 FR 38755
10-2.390 | Conformity to State or Federal Implementation Plans of Transportation Plans, Programs, and Projects Developed, Funded, or Approved Under Title 23 U.S.C. or the Federal Transit Laws | 09/30/2003 | 11/26/2003, 68 FR 66350
Chapter 3—Air Pollution Control Regulations for the Outstate Missouri Area
10-3.010 | Auto Exhaust Emission Controls | 2/1/78 | 3/18/80, 45 FR 17145
10-3.030 | Open Burning Restrictions | 7/31/98 | 4/1/99, 64 FR 15688
10-3.040 | Incinerators | 2/1/78 | 3/18/80, 45 FR 17145 | The state has rescinded this rule.
10-3.060 | Maximum Allowable Emissions of Particulate Matter From Fuel Burning Equipment Used for Indirect Heating | 11/30/02 | 3/18/03, 68 FR 12833
Chapter 4—Air Quality Standards and Air Pollution Control Regulations for Springfield-Greene County Area
10-4.040 | Maximum Allowable Emission of Particulate Matter From Fuel Burning Equipment Used for Indirect Heating | 11/30/02 | 3/18/03, 68 FR 12833
10-4.080 | Incinerators | 12/16/69 | 3/18/80, 45 FR 17145 | The state has rescinded this rule.
10-4.090 | Open Burning Restrictions | 4/2/84 | 8/31/84, 49 FR 34484
10-4.140 | Time Schedule for Compliance | 12/15/69 | 3/18/80, 45 FR 17145
Chapter 5—Air Quality Standards and Air Pollution Control Regulations for the St. Louis Metropolitan Area 10
10-5.030 | Maximum Allowable Emission of Particulate Matter from Fuel Burning Equipment Used for Indirect Heating | 9/4/84 | 1/24/85, 50 FR 3337
10-5.040 | Use of Fuel in Hand-Fired Equipment Prohibited | 9/18/70 | 3/18/80, 45 FR 17145
10-5.060 | Refuse Not To Be Burned in Fuel Burning Installations | 9/18/70 | 3/18/80, 45 FR 17145 | The state has rescinded this rule.
10-5.070 | Open Burning Restrictions | 1/29/95 | 2/17/00, 65 FR 8063
10-5.080 | Incinerators | 9/18/70 | 3/18/80, 45 FR 17145 | The state has rescinded this rule.
10-5.120 | Information on Sales of Fuels to be Provided and Maintained | 9/18/70 | 3/18/80, 45 FR 17145
10-5.130 | Certain Coals to be Washed | 9/18/70 | 3/18/80, 45 FR 17145
10-5.220 | Control of Petroleum Liquid Storage, Loading and Transfer | 8/30/99 | 5/18/00, 65 FR 31491
10-5.240 | Additional Air Quality Control Measures May Be Required When Sources Are Clustered in a Small Land Area | 9/18/70 | 3/18/80, 45 FR 17145
10-5.250 | Time Schedule for Compliance | 1/18/72 | 3/18/80, 45 FR 17145
10-5.290 | More Restrictive Emission Limitations for Sulfur Dioxide and Particulate Matter in the South St. Louis Area | 5/3/82 | 8/30/82, 47 FR 38123 | The state has deleted all provisions to N.L. Industries, which is no longer in operation, and has made significant changes to the provisions affecting Carondelet Coke.
10-5.295 | Control of Emissions From Aerospace Manufacturing and Rework Facilities | 2/29/00 | 5/18/00, 65 FR 31491
10-5.300 | Control of Emissions from Solvent Metal Cleaning | 5/30/02 | 11/22/02, 67 FR 70319
10-5.310 | Liquefied Cutback Asphalt Restricted | 3/1/89 | 3/5/90, 55 FR 7712. |
10-5.330 | Control of Emissions from Industrial Surface Coating Operations | 12/30/00 | 7/20/01, 66 FR 37906. |
10-5.340 | Control of Emissions From Rotogravure and Flexographic Printing Facilities | 3/30/92 | 8/30/93, 58 FR 45451 | The state rule has Section (6)(A)(B), which EPA has not approved. 9/6/94, 59 FR 43376 (correction).
10-5.350 | Control of Emissions From Manufacture of Synthesized Pharmaceutical Products | 11/29/91 | 8/24/94, 59 FR 43480 | 4/3/95, 60 FR 16806 (Correction Notice).
10-5.360 | Control of Emissions from Polyethylene Bag Sealing Operations | 11/29/91 | 8/24/94, 59 FR 43480 | 4/3/95, 60 FR 16806 (Correction Notice).
10-5.370 | Control of Emissions from the Application of Deadeners and Adhesives | 11/29/91 | 8/24/94, 59 FR 43480 | 4/3/95, 60 FR 16806 (Correction Notice).
10-5.380 | Motor Vehicle Emissions Inspection | 12/30/02 | 5/12/03, 68 FR 25418. |
10-5.390 | Control of Emissions from Manufacture of Paints, Varnishes, Lacquers, Enamels and Other Allied Surface Coating Products | 08/30/00 | 8/14/01, 66 FR 42607. |
10-5.410 | Control of Emissions From Manufacture of Polystyrene Resin | 11/29/91 | 8/24/94, 59 FR 43480 | 4/3/95, 60 FR 16806 (Correction Notice).
10-5.420 | Control of Equipment Leaks from Synthetic Organic Chemical and Polymer Manufacturing Plants | 3/1/89 | 3/5/90, 55 FR 7712. |
10-5.440 | Control of Emissions from Bakery Ovens | 12/30/96 | 2/17/00, 65 FR 8063. |
10-5.442 | Control of Emissions from Offset Lithographic Printing Operations | 05/28/95 | 2/17/00, 65 FR 8063. |
10-5.450 | Control of VOC Emissions from Traffic Coatings | 05/28/95 | 2/17/00, 65 FR 8063. |
10-5.451 | Control of Emissions from Aluminum Foil Rolling | 9/30/00 | 7/20/01, 66 FR 37908. |
10-5.455 | Control of Emissions from Solvent Cleaning Operations | 02/28/97 | 2/17/00, 65 FR 8063. |
10-5.480 | Conformity to State or Federal Implementation Plans of Transportation Plans, Programs, and Projects Developed, Funded, or Approved Under Title 23 U.S.C. or the Federal Transit Laws | 09/30/2003 | 11/26/2003, 68 FR 66350 |
10-5.490 | Municipal Solid Waste Landfills | 12/30/96 | 2/17/00, 65 FR 8063 |
10-5.500 | Control of Emissions From Volatile Organic Liquid Storage | 2/29/00 | 5/18/00, 65 FR 31491
10-5.510 | Control of Emissions of Nitrogen Oxides | 2/29/00 | 5/18/00, 65 FR 31484
10-5.520 | Control of Volatile Organic Compound Emissions From Existing Major Sources | 2/29/00 | 5/18/00, 65 FR 31491
10-5.530 | Control of Volatile Organic Compound Emissions From Wood Furniture Manufacturing Operations | 2/29/00 | 5/18/00, 65 FR 31491
10-5.540 | Control of Emissions From Batch Process Operations | 2/29/00 | 5/18/00, 65 FR 31491
10-5.550 | Control of Volatile Organic Compound Emissions From Reactor Processes and Distillation Operations Processes in the Synthetic Organic Chemical Manufacturing Industry | 2/29/00 | 5/18/00, 65 FR 31491
Chapter 6—Air Quality Standards, Definitions, Sampling and Reference Methods, and Air Pollution Control Regulations for the State of Missouri
10-6.010 | Ambient Air Quality Standards | 4/18/88 | 7/31/89, 54 FR 31524 | The state adopted and submitted a revised ozone standard and a lead standard which EPA never acted on.
10-6.020 | Definitions and Common Reference Tables | 5/30/00 | 3/23/01, 66 FR 16139
10-6.030 | Sampling Methods for Air Pollution Sources | 10/31/98 | 4/1/99, 64 FR 15688
10-6.040 | Reference Methods | 07/30/01 | 10/15/01, 66 FR 52361
10-6.050 | Start-up, Shutdown, and Malfunction Conditions | 2/28/02 | 8/27/02, 67 FR 54967
10-6.060 | Construction Permits Required | 4/30/03 | 8/11/03, 68 FR 47468 | Section 9, pertaining to hazardous air pollutants, is not SIP approved.
10-6.065 | Operating Permits | 4/30/03 | 9/17/03, 68 FR 54369 | The state rule has sections (4)(A), (4)(B), and (4)(H)—Basic State Operating Permits. EPA has not approved those sections. Section (6), Part 70 Operating Permits, has been approved as an integral part of the operating permit program and has not been approved as part of the SIP. The “intermediate source” program in Section (5) is approved, along with other provisions of 10-6.065 on which it relies.
10-6.110 | Submission of Emission Data, Emission Fees and Process Information | 8/30/02 | 11/22/02, 67 FR 70321 | Section (5), Emission Fees, has not been approved as part of the SIP.
10-6.120 | Restriction of Emissions of Lead from Primary Lead Smelter-Refinery Installations | 03/30/01 | 4/16/02, 67 FR 18501. |
10-6.130 | Controlling Emissions During Episodes of High Air Pollution Potential | 11/30/02 | 3/18/03, 68 FR 12831. |
10-6.140 | Restriction of Emissions Credit for Reduced Pollutant Concentrations from the Use of Dispersion Techniques | 5/1/86 | 3/31/89, 54 FR 13184. |
10-6.150 | Circumvention | 8/15/90 | 4/17/91, 56 FR 15500. |
10-6.170 | Restriction of Particulate Matter to the Ambient Air Beyond the Premises of Origin | 8/30/98 | 3/31/00, 65 FR 17166. |
10-6.180 | Measurement of Emissions of Air Contaminants | 11/19/90 | 7/23/91, 56 FR 33714. |
10-6.210 | Confidential Information | 1/27/95 | 2/29/96, 61 FR 7714. |
10-6.220 | Restriction of Emission of Visible Air Contaminants | 11/30/02 | 3/18/03, 68 FR 12829 |
10-6.260 | Restriction of Emission of Sulfur Compounds | 7/31/96 | 8/27/98, 63 FR 45727 | EPA did not approve section (4) of the state rule.
10-6.280 | Compliance Monitoring Usage | 3/30/02 | 8/27/02, 67 FR 54963. |
10-6.300 | Conformity of General Federal Actions to State Implementation Plans | 8/31/96 | 5/14/97, 62 FR 26395. |
10-6.330 | Restriction of Emissions from Batch-type Charcoal Kilns | 6/30/98 | 12/8/98, 63 FR 67591. |
10-6.350 | Emissions Limitations and Emissions Trading of Oxides of Nitrogen | 8/30/00 | 12/28/00, 65 FR 82288
10-6.400 | Restriction of Emission of Particulate Matter From Industrial Processes | 09/30/01 | 11/30/01, 66 FR 59708
10-6.410 | Emissions Banking and Trading | 04/30/03 | 8/11/03, 68 FR 47468
Missouri Department of Public Safety Division 50—State Highway Patrol Chapter 2—Motor Vehicle Inspection
50-2.010 | Definitions | 4/11/82 | 8/12/85, 50 FR 32411
50-2.020 | Minimum Inspection Station Requirements | 10/11/82 | 8/12/85, 50 FR 32411
50-2.030 | Inspection Station Classification | 12/11/77 | 8/12/85, 50 FR 32411
50-2.040 | Private Inspection Stations | 5/31/74 | 8/12/85, 50 FR 32411
50-2.050 | Inspection Station Permits | 11/11/79 | 8/12/85, 50 FR 32411
50-2.060 | Display of Permits, Signs and Poster | 11/31/74 | 8/12/85, 50 FR 32411
50-2.070 | Hours of Operation | 11/11/83 | 8/12/85, 50 FR 32411
50-2.080 | Licensing of Inspector/Mechanics | 4/13/78 | 8/12/85, 50 FR 32411
50-2.090 | Inspection Station Operational Requirements | 8/11/78 | 8/12/85, 50 FR 32411
50-2.100 | Requisition of Inspection Stickers and Decals | 6/12/80 | 8/12/85, 50 FR 32411
50-2.110 | Issuance of Inspection Stickers and Decals | 12/11/77 | 8/12/85, 50 FR 32411
50-2.120 | MVI-2 Form | 11/11/83 | 8/12/85, 50 FR 32411
50-2.130 | Violations of Laws or Rules Penalty | 5/31/74 | 8/12/85, 50 FR 32411
50-2.260 | Exhaust System | 5/31/74 | 8/12/85, 50 FR 32411
50-2.280 | Air Pollution Control Devices | 12/11/80 | 8/12/85, 50 FR 32411
50-2.290 | Fuel Tank | 5/3/74 | 8/12/85, 50 FR 32411
50-2.350 | Applicability of Motor Vehicle Emission Inspection | 5/1/84 | 8/12/85, 50 FR 32411
50-2.360 | Emission Fee | 11/1/83 | 8/12/85, 50 FR 32411
50-2.370 | Inspection Station Licensing | 12/21/90 | 10/13/92, 57 FR 46778.
50-2.380 | Inspector/Mechanic Licensing | 11/1/83 | 8/12/85, 50 FR 32411
50-2.390 | Safety/Emission Stickers | 11/1/83 | 8/12/85, 50 FR 32411
50-2.401 | General Specifications | 12/21/90 | 10/13/92, 57 FR 46778.
50-2.402 | MAS Software Functions | 12/21/90 | 10/13/92, 57 FR 46778. | The SIP does not include Section (6), Safety Inspection.
50-2.403 | Missouri Analyzer System (MAS) Display and Program Requirements | 12/21/90 | 10/13/92, 57 FR 46778. | The SIP does not include Section (3)(B)4, Safety Inspection Sequences or (3)(M)5(II), Safety Inspection Summary.
50-2.404 | Test Record Specifications | 12/21/90 | 10/13/92, 57 FR 46778. | The SIP does not include Section (5), Safety Inspection Results.
50-2.405 | Vehicle Inspection Certificate, Vehicle Inspection Report, and Printer Function Specifications | 12/21/90 | 10/13/92, 57 FR 46778.
50-2.406 | Technical Specifications for the MAS | 12/21/90 | 10/13/92, 57 FR 46778.
50-2.407 | Documentation, Logistics and Warranty Requirements | 12/21/90 | 10/13/92, 57 FR 46778.
50-2.410 | Vehicles Failing Reinspection | 12/21/90 | 10/13/92, 57 FR 46778.
50-2.420 | Procedures for Conducting Only Emission Tests | 12/21/90 | 10/13/92, 57 FR 46778.
Kansas City Chapter 8—Air Quality
8-2 | Definitions | 12/10/98 | 12/22/99, 64 FR 71666
8-4 | Open burning | 10/31/96 | 4/22/98, 65 FR 19823
8-5 | Emission of particulate matter | 12/10/98 | 12/22/99, 64 FR 71666 | Only subsections 8-5(c)(1)b, 8-5(c)(1)c, 8-5(c)(2)a, 8-5(c)(3)a, 8-5(c)(3)b, 8-5(c)(3)c, 8-5(c)(3)d are approved in the SIP.
Springfield—Chapter 2A—Air Pollution Control Standards
Article I | Definitions | 10/31/96 | 4/22/98, 63 FR 19823 | Only Section 2A-2 is approved by EPA.
Article VII | Stack Emission Test Method | 10/31/96 | 4/22/98, 63 FR 19823 | Only Section 2A-25 is approved by EPA.
Article IX | Incinerator | 10/31/96 | 4/22/98, 63 FR 19823 | Only Sections 2A-34 through 38 are approved by EPA.
Article XX | Test Methods and Tables | 10/31/96 | 4/22/98, 63 FR 19823 | Only Sections 2A-51, 55, and 56 are approved by EPA.
St. Louis City Ordinance 65645
Section 6 | Definition | 8/28/03 | 12/9/03, 68 FR 68523 | The phrase “other than liquids or gases” in the Refuse definition has not been approved.
Section 15 | Open Burning Restrictions | 8/28/03 | 12/9/03, 68 FR 68523

(d) EPA-approved state source-specific permits and orders.

EPA-Approved Missouri Source-Specific Permits and Orders
Name of source | Order/permit number | State effective date | EPA approval date | Explanation
(1) ASARCO Inc. Lead Smelter, Glover, MO | Order | 8/13/80 | 4/27/81, 46 FR 23412
(2) St. Joe Lead (Doe Run) Company Lead Smelter, Herculaneum, MO | Order | 3/21/84 | 6/11/84, 49 FR 24022
(3) AMAX Lead (Doe Run) Company Lead Smelter, Boss, MO | Order | 9/27/84 | 1/7/85, 50 FR 788
(4) Gusdorf Operating Permit 11440 Lackland Road, St. Louis County, MO | Permit Nos: 04682-04693 | * 4/29/80 | 10/15/84, 49 FR 40164
(5) Doe Run Lead Smelter, Herculaneum, MO | Consent Order | 3/9/90 | 3/6/92, 57 FR 8077
(6) Doe Run Lead Smelter, Herculaneum, MO | Consent Order | 8/17/90 | 3/6/92, 57 FR 8077
(7) Doe Run Lead Smelter, Herculaneum, MO | Consent Order | 7/2/93 | 5/5/95, 60 FR 22274
(8) Doe Run Lead Smelter, Herculaneum, MO | Consent Order (Modification) | 4/28/94 | 5/5/95, 60 FR 22274 | In a notice published on 8/15/97 at 62 FR 43647, EPA required implementation of the contingency measures.
(9) Doe Run Lead Smelter, Herculaneum, MO | Consent Order (Modification) | 11/23/94 | 5/5/95, 60 FR 22274
(10) Doe Run Buick Lead Smelter, Boss, MO | Consent Order | 7/2/93 | 8/4/95, 60 FR 39851
(11) Doe Run Buick Lead Smelter, Iron County, MO | Consent Order (Modification) | 9/29/94 | 8/4/95, 60 FR 39851
(12) ASARCO Glover Lead Smelter, Glover, MO | Consent Decree CV596-98CC with exhibits A-G | 7/30/96 | 3/5/97, 62 FR 9970
(13) Eagle-Picher Technologies, Joplin, MO | Consent Agreement | 08/26/99 | 4/24/00, 65 FR 21651
(14) Doe Run Resource Recycling Facility near Buick, MO | Consent Order | 5/11/00 | 10/18/00, 65 FR 62298
(15) St. Louis University | Medical Waste Incinerator | 9/22/92 | 4/22/98, 63 FR 19823
(16) St. Louis University | Permit Matter No. 00-01-004 | 1/31/00 | 10/26/00, 65 FR 64158
(17) St. Joseph Light & Power SO2 | Consent Decree | 05/21/01 | 11/15/01, 66 FR 57391
(18) Asarco, Glover, MO | Modification of Consent Decree, CV596-98CC | 07/31/00 | 4/16/02, 67 FR 18501
(19) Doe Run, Herculaneum, MO | Consent Judgement, CV301-0052C-J1, with Work Practice Manual and S.O.P. for Control of Lead Emissions (Rev 2000) | 01/05/01 | 4/16/02, 67 FR 18501
(20) Springfield City Utilities James River Power Station SO2 | Consent Agreement | 12/06/01 | 3/25/02, 67 FR 13572
(21) St. Louis University | Permit Matter No. 00-01-004 | 8/28/03 | 12/9/03, 68 FR 68523 | Updates a reference in section II.B. to Ordinance No. 65645.
* St. Louis County.

(e) EPA approved nonregulatory provisions and quasi-regulatory measures.

EPA-Approved Missouri Nonregulatory SIP Provisions
Name of nonregulatory SIP provision | Applicable geographic or nonattainment area | State submittal date | EPA approval date | Explanation
(1) Kansas City and Outstate Air Quality Control Regions Plan | Kansas City and Outstate | 1/24/72 | 5/31/72, 37 FR 10875
(2) Implementation Plan for the Missouri portion of the St. Louis Interstate Air Quality Control Region | St. Louis | 1/24/72 | 5/31/72 37, FR 10875
(3) Effects of adopting Appendix B to NO2 emissions | St. Louis | 3/27/72 | 5/31/72, 37 FR 10875
(4) CO air quality data base | St. Louis | 5/2/72 | 5/31/72, 37 FR 10875
(5) Budget and manpower projections | Statewide | 2/28/72 | 10/28/72, 37 FR 23089
(6) Emergency episode manual | Kansas City | 5/11/72 | 10/28/72, 37 FR 23089
(7) Amendments to Air Conservation Law | Statewide | 7/12/72 | 10/28/72, 37 FR 23089
(8) Air monitoring plan | Outstate | 7/12/72 | 10/28/72, 37 FR 23089
(9) Amendments to Air Conservation Law | Statewide | 8/8/72 | 10/28/72, 37 FR 23089
(10) Transportation control strategy | Kansas City | 5/11/73 5/21/73 | 6/22/73, 38 FR 16566
(11) Analysis of ambient air quality data and recommendation to not designate the area as an air quality maintenance area | Kansas City | 4/11/74 | 3/2/76, 41 FR 8962
(12) Recommendation to designate air quality maintenance areas | St. Louis, Columbia, Springfield | 5/6/74 | 9/9/75, 40 FR 41950
(13) Plan to attain the NAAQS | Kansas City, St. Louis | 7/2/79 | 4/9/80, 45 FR 24140 | Correction notice published 7/11/80.
(14) Schedule for I/M program and commitment regarding difficult transportation control measures (TCMs) | St. Louis | 9/9/80 | 3/16/81, 46 FR 16895
(15) Lead SIP | Statewide | 9/2/80 2/11/81 2/13/81 | 4/27/81, 46 FR 23412; 7/19/84, 49 FR 29218 | Correction notice published 5/15/81.
(16) Report on recommended I/M program | St. Louis | 12/16/80 | 8/27/81, 46 FR 43139 | No action was taken on the specific recommendations in the report.
(17) Report outlining commitments to TCMs, analysis of TCMs, and results of CO dispersion modeling | St. Louis | 2/12/81 4/28/81 | 11/10/81, 46 FR 55518
(18) 1982 CO and ozone SIP | St. Louis | 12/23/82 8/24/83 | 10/15/84, 49 FR 40164
(19) Air quality monitoring plan | Statewide | 6/6/84 | 9/27/84, 49 FR 38103
(20) Vehicle I/M program | St. Louis | 8/27/84 | 8/12/85, 50 FR 32411
(21) Visibility protection plan | Hercules Glades and Mingo Wildlife Area | 5/3/85 | 2/10/86, 51 FR 4916
(22) Plan for attaining the ozone standard by December 31, 1987 | St. Louis | 8/1/85 | 9/3/86, 51 FR 31328
(23) PM10 plan | Statewide | 3/29/88 6/15/88 | 7/31/89, 54 FR 31524
(24) Construction permit fees including Chapter 643 RSMo | Statewide | 1/24/89 9/27/89 | 1/9/90, 55 FR 735
(25) PSD NOX requirements including a letter from the state pertaining to the rules and analysis | Statewide | 7/9/90 | 3/5/91, 56 FR 9172
(26) Lead plan | Herculaneum | 9/6/90 5/8/91 | 3/6/92, 57 FR 8076
(27) Ozone maintenance plan | Kansas City | 10/9/91 | 6/23/92, 57 FR 27939
(28) Small business assistance plan | Statewide | 3/10/93 | 10/26/93, 58 FR 57563
(29) Part D Lead plan | Herculaneum | 7/2/93 6/30/94 11/23/94 | 5/5/95, 60 FR 22274
(30) Intermediate permitting program including three letters pertaining to authority to limit potential to emit hazardous air pollutants | Statewide | 3/31/94 11/7/94 10/3/94 2/10/95 | 9/25/95, 60 FR 49340
(31) Part D lead plan | Bixby | 7/2/93 6/30/94 | 8/4/95, 60 FR 39851
(32) Transportation conformity plans including a policy agreement and a letter committing to implement the state rule consistent with the Federal transportation conformity rule | St. Louis, Kansas City | 2/14/95 | 2/29/96, 61 FR 7711
(33) Emissions inventory update including a motor vehicle emissions budget | Kansas City | 4/12/95 | 4/25/96, 61 FR 18251
(34) Part D Lead Plan | Glover | 8/14/96 | >3/5/97, 62 FR 9970
(35) CO Maintenance Plan | St. Louis | 6/13/97 6/15/98 | 1/26/99, 64 FR 3855
(36) 1990 Base Year Inventory | St. Louis | 1/20/95 | 2/17/00, 65 FR 8063
(37) 15% Rate-of-Progress Plan | St. Louis | 11/12/99 | 5/18/00, 65 FR 31489
(38) Implementation plan for the Missouri inspection maintenance program | St. Louis | 11/12/99 | 5/18/00, 65 FR 31482
(39) Doe Run Resource Recycling Facility near Buick, MO | Dent Township in Iron County | 5/17/00 | 10/18/00, 65 FR 62298
(40) Commitments with respect to implementation of rule 10 CSR 10-6.350, Emissions Limitations and Emissions Trading of Oxides of Nitrogen | Statewide | 8/8/00 | 12/28/00, 65 FR 82288
(41) Contingency Plan including letter of April 5, 2001 | St. Louis | 10/6/97, 4/5/01 | 6/26/01, 66 FR 34011
(42) Ozone 1-Hour Standard Attainment Demonstration Plan for November 2004 including 2004 On-Road Motor Vehicle Emissions Budgets | St. Louis | 11/10/99, 11/2/00, 2/28/01, 3/7/01 | 6/26/01, 66 FR 34011
(43) Doe Run Resources Corporation Primary Lead Smelter, 2000 Revision of Lead SIP | Herculaneum, MO | 1/09/01 | 4/16/02, 67 FR 18502 | The SIP was reviewed and approved by EPA on 1/11/01.
(44) Doe Run Resources Corporation Primary Lead Smelter, 2000 Revision of Lead SIP | Glover, MO | 6/15/01 | 4/16/02, 67 FR 18502 | The SIP was reviewed and approved by EPA on 6/26/01.
(45) Maintenance Plan for the Missouri Portion of the St. Louis Ozone Nonattainment Area including 2014 On-Road Motor Vehicle Emission Budgets | St. Louis | 12/06/02 | 5/12/03, 68 FR 25442
(46) Maintenance Plan for the 1-hour ozone standard in the Missouri portion of the Kansas City maintenance area for the second ten-year period | Kansas City | 12/17/02 | 1/13/04, 69 FR 1923

[FR Doc. 04-11556 Filed 5-21-04; 8:45 am]

BILLING CODE 6560-50-P